DEPARTMENT OF TRANSPORTATION

Surface Transportation Board

[Docket No. FD 35741]

American Surface Lines, LLC—Acquisition and Operation Exemption—Mikrut Properties, LLLP

American Surface Lines, LLC (ASL), a noncarrier, has filed a verified notice of exemption under 49 CFR 1150.31 to acquire by assignment from Mikrut Properties, LLLP (MP), and to operate as a common carrier, certain rail lines that comprise a total distance of 1.56 miles in Winona, Winona County, Minn.

The lines are described as follows: (a) 1.37 miles (7,215 feet) of rail line, comprised of seven tracks, extending from point of connection with the main line of Soo Line Railroad Company, d/b/a Canadian Pacific Railroad Company (CP) at or near Pelzer Street to a transloading facility owned and operated by MP; and (b) 0.19 miles of rail line, comprised of two nearby tracks of approximately 500 feet each, extending from point of connection with the main line of Union Pacific Railroad Company (UP) at or near 3rd Street to a transloading facility also owned and operated by MP. ASL states that there are no mileposts on the lines. ASL also states that there are no interchange commitments between ASL and MP.

According to ASL, the lines have been operated by MP as private tracks. ASL states that the MP tracks that connect to CP's line have been operated pursuant to a private siding agreement between CP and MP dated May 22, 2012. According to ASL, MP is assigning to ASL that agreement, and ASL will terminate the agreement and operate the tracks as common carrier tracks. ASL also explains that the MP tracks that connect to UP's line have been operated by MP pursuant to a lease from UP dated May 20, 2011. ASL states that MP is assigning to ASL that lease with UP's written consent.

The earliest the transaction can be consummated is July 6, 2013, the effective date of the exemption (30 days after the exemption was filed).

ASL certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than June 28, 2013 (at least 7 days before the exemption becomes effective).

An original and 10 copies of all pleadings, referring to Docket No. FD 35741, must be filed with the Surface Transportation Board, 395 E Street, SW., Washington, DC 20423-0001. In addition, a copy of each pleading must be served on Thomas F. McFarland, Thomas F. McFarland, P.C., 208 South LaSalle Street, Suite 1890, Chicago, IL 60604-1112.

Board decisions and notices are available on our Web site at www.stb.dot.gov.

Decided: June 17, 2013.
By the Board, Rachel D. Campbell, Director, Office of Proceedings.
Derrick A. Gardner,
Clearance Clerk.

[FR Doc. 2013-14770 Filed 6-20-13; 8:45 am]

BILLING CODE 4915-01-P